DEPARTMENT OF LABOR

Office of the Secretary

Combating Exploitive Child Labor Through Education

AGENCY: Bureau of International Labor Affairs, U.S. Department of Labor.

ACTION: Notice of intent to solicit cooperative agreement applications.

SUMMARY: The U.S. Department of Labor (USDOL), Bureau of International Labor Affairs (ILAB), intends to obligate approximately U.S. $54 million to support cooperative agreement awards to organizations to address exploitive child labor internationally. ILAB intends to award, through a competitive and merit-based process, cooperative agreements to organizations to develop and implement formal, non-formal, and vocational education projects as a means to combat exploitive child labor in the following ten countries: (1) Democratic Republic of the Congo, (2) Uganda, (3) Togo, (4) Colombia, (5) Bolivia, (6) Dominican Republic, (7) Indonesia, (8) Morocco, (9) the Philippines, and (10) Cambodia. ILAB intends to fund projects that focus on innovative ways to provide educational services to children engaged, or at risk of engaging, in exploitive labor. The projects should address the gaps and challenges to basic education found in the countries mentioned above. ILAB also intends to award a cooperative agreement to an organization(s) to conduct research on exploitive child labor and forced labor in the carpet sectors of Nepal, Pakistan, and India. ILAB intends to solicit cooperative agreement applications from qualified organizations (i.e., any commercial, international, educational, or non-profit organization capable of successfully developing and implementing child labor and/or research projects) to implement these projects. Please refer to http://www.dol.gov/ILAB/grants/main.htm for examples of previous notices of availability of funds and solicitations for cooperative agreement applications.

Information on the specific sectors, geographical regions, and funding levels for the potential projects in the countries listed above will be addressed in a solicitation(s) for cooperative agreement applications to be published prior to September 30, 2007. Potential applicants should not submit inquiries to USDOL for further information on these award opportunities until after USDOL's publication of the solicitations. For a list of frequently asked questions on Solicitations for Cooperative Agreement Applications, please visit http://www.dol.gov/ILAB/faq/faq36.htm.

USDOL intends to hold a bidders' meeting on June 14, 2007, to answer questions potential applicants may have on this Solicitation for Cooperative Agreement process. Please see below for more information on the bidders' meeting.

DATES: Key Dates: Specific solicitations for cooperative agreement applications will be published in the Federal Register and remain open for at least 30 days from the date of publication. All cooperative agreement awards will be made on or before September 30, 2007.

ADDRESSES: Submission Address: Applications, in response to solicitations published in the Federal Register, must be delivered to: U.S. Department of Labor, Procurement Services Center, 200 Constitution Avenue, NW., Room S-4306, Attention: Lisa Harvey, Washington, DC, 20210.

FOR FURTHER INFORMATION CONTACT: Ms. Lisa Harvey. E-mail address: harvey.lisa@dol.gov. All inquiries should make reference to the USDOL Combating Child Labor Through Education—Solicitations for Cooperative Agreement Applications.

Bidders' Meeting: A bidders' meeting is scheduled to be held in Washington, DC, at the Department of Labor on Thursday, June 14, 2007, from 9:30 a.m. to 11:30 a.m. The purpose of this meeting is to provide potential applicants with the opportunity to ask questions concerning this Solicitation for Cooperative Agreement process. To register for the meeting, please call or e-mail Ms. Doris Senko (Phone: 202-693-4843; E-mail: senko.doris@dol.gov) by June 1, 2007. Please provide Ms. Senko with contact information including name, organization, address, phone number, and e-mail address of the attendees.

Background Information: Since 1995, USDOL has supported technical cooperation programming to combat exploitive child labor internationally through the promotion of educational opportunities for children-in-need. In total, the U.S. Congress has appropriated to USDOL over U.S. $595 million to support activities to combat exploitive child labor internationally. In turn, ILAB has signed cooperative agreements with various organizations to support international technical assistance projects to combat abusive child labor in over 75 countries around the world.

USDOL international programming to combat exploitive child labor through education seeks to nurture the development, health, safety, and enhanced future employability of children around the world by withdrawing or preventing children from involvement in exploitive labor and providing them with access to basic education, vocational training and other services. Eliminating exploitive child labor depends, in part, on improving access to, quality of, and relevance of educational and training opportunities for children under 18 years of age. Without improving such opportunities, children withdrawn from exploitive forms of labor may not have viable alternatives to child labor and may be more likely to return to such work or resort to other hazardous means of subsistence.

International projects funded by USDOL to combat exploitive child labor seek to:

1. Withdraw or prevent children from involvement in exploitive child labor through the provision of direct educational and training services;

2. Strengthen policies on child labor and education, the capacity of national institutions to combat child labor, and formal and transitional education systems that encourage working children and those at risk of working to attend school;

3. Raise awareness of the importance of education for all children and mobilize a wide array of actors to improve and expand education infrastructures

4. Support research and the collection of reliable data on child labor; and

5. Ensure the long-term sustainability of these efforts.

When working to eradicate exploitive child labor, USDOL strives to complement existing efforts, to build on the achievements of and lessons learned from these efforts, to expand impact and build synergies among actors, and to avoid duplication of resources and efforts.

Signed at Washington, DC, this 20th day of April, 2007.
Lisa Harvey,
Grant Officer.

[FR Doc. E7-7962 Filed 4-25-07; 8:45 am]

BILLING CODE 4510-28-P